DEPARTMENT OF COMMERCE

Notice of Meeting

AGENCY: International Trade Administration, Department of Commerce.

ACTION: Meeting notice.

SUMMARY: The Department of Commerce's International Trade Administration (ITA) would like to raise awareness about the importance of identity management to innovation, economic growth, and international trade. Toward that end, ITA will host a roundtable discussion on identity management and international business competitiveness on Tuesday, September 18, 2007. The roundtable is intended to facilitate a candid discussion of individual views by a representative group of experts on this important issue.

DATES: September 18, 2007.

ADDRESSES: Inquiries about participation in the roundtable should be addressed to the contact below, and received by close of business on Monday, August 20, 2007.

FOR FURTHER INFORMATION CONTACT: Paulette Hernandez, U.S. Department of Commerce, Office of Technology and Electronic Commerce, 1401 Constitution Avenue, NW., Room 4324, Washington, DC 20230; Telephone: 202-482-0399; Fax: 202-482-5834; e-mail: paulette.hernandez@mail.doc.gov.

SUPPLEMENTARY INFORMATION: The roundtable discussion on identity management and international business competitiveness will look at: (1) The need for improvements in existing identity management practices; (2) the impact of identity management on business competitiveness and the ability of businesses to use electronic commerce to enhance international trade; (3) industry best practices in identity management and challenges associated with promulgating these best practices; (4) the trade-related implications of identity management; and (5) ways to create an identity management landscape that balances the needs of consumers, industry, and government and enables the growth of e-commerce. ITA will host a group of twenty experts in the field of identity management to hold this discussion. In addition, we intend to include up to thirty additional individuals to participate as part of the audience. Space is limited for both panelists and audience participants. ITA will select panelists and audience participants with a view to ensuring broad representation from industry, government, academia, and civil society. This roundtable will be closed to the press.

Dated: August 10, 2007.
Robin Layton,
Director, Office of Technology and Electronic Commerce.

[FR Doc. E7-16048 Filed 8-14-07; 8:45 am]

BILLING CODE 3510-DR-P